DEPARTMENT OF THE INTERIOR

National Park Service

[2253-665]

Notice of Inventory Completion: Western Michigan University, Department of Anthropology, Kalamazoo, MI

AGENCY: National Park Service, Interior.

ACTION: Notice.

SUMMARY: Western Michigan University, Department of Anthropology, has completed an inventory of human remains and associated funerary objects, in consultation with the appropriate Indian tribes, and has determined that there is no cultural affiliation between the human remains and any present-day Indian tribe. Representatives of any Indian tribe that believes itself to be culturally affiliated with the human remains and associated funerary objects may contact Western Michigan University, Department of Anthropology. Disposition of the human remains and associated funerary objects to the Indian tribe stated below may occur if no additional requestors come forward.

DATES: Representatives of any Indian tribe that believes it has a cultural affiliation with the human remains and associated funerary objects should contact the Western Michigan University, Department of Anthropology, at the address below by July 21, 2011.

ADDRESSES: LouAnn Wurst, Department of Anthropology, Western Michigan University, 1005 Moore Hall, Kalamazoo, MI 49008, telephone (269) 387-2753.

SUPPLEMENTARY INFORMATION: Notice is hereby given in accordance with the Native American Graves Protection and Repatriation Act (NAGPRA), 25 U.S.C. 3003, of the completion of an inventory of human remains and associated funerary objects in the possession of Western Michigan University, Department of Anthropology, Kalamazoo, MI. The human remains and associated funerary objects were removed from Mendon Township, St. Joseph County, MI.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the Western Michigan University, Department of Anthropology, professional staff in consultation with representatives of the Match-e-be-nash-she-wish Band of Pottawatomi Indians of Michigan; Nottawaseppi Huron Band of the Potawatomi, Michigan (formerly the Huron Potawatomi, Inc.); Pokagon Band of Potawatomi Indians, Michigan and Indiana; and the Saginaw Chippewa Indian Tribe of Michigan (hereinafter referred to as “The Tribes”). The Match-e-be-nash-she-wish Band of Pottawatomi Indians of Michigan; Nottawaseppi Huron Band of the Potawatomi, Michigan; and the Saginaw Chippewa Indian Tribe of Michigan have sent the Western Michigan University, Department of Anthropology, letters of support and do not object to disposition of the human remains and associated funerary objects described in this notice to the Pokagon Band of Potawatomi Indians, Michigan and Indiana.

History and Description of the Remains

In 1988, human remains representing a minimum of one individual were removed from the Kline Site, in Mendon Township, St. Joseph County, MI, during excavation by the Western Michigan University field school directed by Dr. William Cremin. The remains were encountered during excavation of the agricultural plow zone. As a result, the burial was heavily disturbed and the human remains were shattered into 128 fragments. After the field season was completed, the remains were transferred to Western Michigan University's anthropology department for further curation and study. The remains were too fragmentary for morphological identification. No known individual was identified. The 33 associated funerary objects are 1 green slate gorget, 1 ceramic elbow pipe, 1 Levanna type triangular point, 1 broken lithic biface (possible projectile point base), 1 ceramic body sherd, 26 lithic flakes, 1 vial with residue from clay pipe, and 1 small bag containing a soil sample.

Determinations Made by the Western Michigan University, Anthropology Department

Officials of Western Michigan University, Department of Anthropology, have determined that:

• Based on the associated funerary objects and oral traditions, the human remains are Native American.

• Pursuant to 25 U.S.C. 3001(2), a relationship of shared group identity cannot be reasonably traced between the Native American human remains and associated funerary objects and any present-day Indian tribe.

• Multiple lines of evidence, including the Chicago Treaty of 1833, continued occupation of the area, and oral tradition, indicate that the land from which the Native American human remains and associated funerary objects were removed is the aboriginal land of The Tribes.

• Pursuant to 25 U.S.C. 3001(9), the human remains described in this notice represent the physical remains of one individual of Native American ancestry.

• Pursuant to 25 U.S.C. 3001(3)(A), the 33 objects described above are reasonably believed to have been placed with or near individual human remains at the time of death or later as part of the death rite or ceremony.

• Pursuant to 43 CFR 10.11(c)(1), the disposition of the human remains and associated funerary objects is to the Pokagon Band of Potawatomi Indians, Michigan and Indiana.

Additional Requestors and Disposition

Representatives of any Indian tribe that believes itself to be culturally affiliated with the human remains and associated funerary objects or any other Indian tribe that believes it satisfies the criteria in 43 CFR 10.11(c)(1) should contact LouAnn Wurst, Department of Anthropology, Western Michigan University, 1005 Moore Hall, Kalamazoo, MI 49008, telephone (269) 387-2753, before July 21, 2011. Disposition of the human remains and associated funerary objects to the Pokagon Band of Potawatomi Indians, Michigan and Indiana, may proceed after that date if no additional requestors come forward.

Western Michigan University, Department of Anthropology, is responsible for notifying The Tribes that this notice has been published.

Dated: June 15, 2011.
Sherry Hutt,
Manager, National NAGPRA Program.

[FR Doc. 2011-15428 Filed 6-20-11; 8:45 am]

BILLING CODE 4312-60-P